POSTAL SERVICE

Board of Governors; Sunshine Act Meeting

Times and Dates: 4 p.m., Monday, June 21, 2010; and 10 a.m., Tuesday, June 22, 2010.

Place: Louisville, Kentucky, at the Brown Hotel, 335 West Broadway.

Status: (Closed).

Matters To Be Considered:

Monday, June 21, at 4 p.m. (Closed)

1. Strategic Issues.

2. Financial Matters.

3. Pricing.

4. Personnel Matters and Compensation Issues.

5. Governors' Executive Session—Discussion of prior agenda items and

Board Governance.

Tuesday, June 22, at 10 a.m. (Closed)

1. Continuation of Monday's agenda.

Contact Person for More Information: Julie S. Moore, Secretary of the Board, U.S. Postal Service, 475 L'Enfant Plaza, SW., Washington, DC 20260-1000. Telephone (202) 268-4800.

Julie S. Moore,
Secretary.

[FR Doc. 2010-14226 Filed 6-9-10; 4:15 pm]

BILLING CODE 7710-12-P